DEPARTMENT OF HOMELAND SECURITY

Coast Guard

33 CFR Part 100

[Docket Number USCG-2024-0528]

RIN 1625-AA08

Special Local Regulation; Seddon Channel, Tampa, FL

AGENCY: Coast Guard, Department of Homeland Security (DHS).

ACTION: Notice of proposed rulemaking.

SUMMARY: The Coast Guard is proposing to establish a temporary special local regulation for certain waters of the Seddon Channel. This action is necessary to provide for the safety of life on these navigable waters near the Tampa Convention Center, Tampa, FL, during a marine event on November 9, 2024. This proposed rulemaking would establish a special local regulation with the following regulated areas: an event area where all non-participant persons and vessels are prohibited from entering, transiting through, anchoring in, or remaining within unless authorized by the Captain of the Port St. Petersburg (COTP) or a designated representative; a spectator area where vessels will be directed to anchor while the event is taking place; and an enforcement area where designated representatives may control vessel traffic as determined by the prevailing conditions. We invite your comments on this proposed rulemaking.

DATES: Comments and related material must be received by the Coast Guard on or before October 7, 2024.

ADDRESSES: You may submit comments identified by docket number USCG-2024-0528 using the Federal Decision-Making Portal at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call or email Marine Science Technician First Class Mara Brown, Sector St. Petersburg Prevention Department, U.S. Coast Guard; telephone 813-228-2191, email Mara.J.Brown@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

On January 13, 2024, an organization notified the Coast Guard that it will be conducting the Red Bull Flugtag Tampa from 7 a.m. to 8 p.m. on November 9, 2024. The Red Bull Flugtag is a free family-friendly event that challenges people to design and construct homemade “flying crafts” and attempt to fly or glide them off of a temporary structure known as the “Flight Deck”. Thirty-five (35) to 40 teams of 5 people will be selected to participate. Spectating takes place from both land and water. The COTP has determined that potential hazards associated with the event would be a safety concern for spectators and mariners adjacent to the Seddon channel.

The purpose of this rulemaking is to ensure the safety of event participants, spectators, and the general public on certain waters adjacent to the Seddon Channel before, during, and after the scheduled event. The Coast Guard is proposing this rulemaking under authority in 46 U.S.C. 70041.

III. Discussion of Proposed Rule

The COTP St. Petersburg is proposing to establish a special local regulation from 7 a.m. until 8 p.m., on November 9, 2024. The special local regulation would establish: (1) an event area where all non-participant persons and vessels are prohibited from entering, transiting through, anchoring in, or remaining within unless authorized by the COTP or a designated representative. The event area would cover all navigable waters in Seddon Channel commencing at latitude 27°56′27″ N, 082°27′28″ W, thence to position 27°56′29″ N, 082°27′28″ W, thence to position 27°56′25″ N, 082°27′18″ W, thence to position 27°56′23″ N, 082°27′19″ W, thence to the original position, (2) a spectator area where vessels will be directed to anchor while the event is taking place. The spectator area would cover all navigable waters in Seddon Channel commencing at latitude 27°56′25″ N, 082°27′32″ W, thence to position 27°56′28″ N, 082°27′30″ W, thence to position 27°56′23″ N, 082°27′19″ W, thence to position 27°56′19″ N, 082°27′23″ W, thence to position 27°56′12″ N, 082°27′21″ W, thence to position 27°56′12″ N, 082°27′23″ W, thence to original position, and (3) an enforcement area where designated representatives may control vessel traffic as determined by the prevailing conditions. The enforcement area would cover all navigable waters in Seddon Channel commencing at latitude 27°56′18″ N, 082°27′43″ W, thence to position 27°56′30″ N, 082°27′33″ W, thence to position 27°56′30″ N, 082°27′29″ W, thence to position 27°56′25″ N, 082°27′17″ W, thence to position 27°56′22″ N, 082°27′16″ W, thence to position 27°56′18″ N, 082°27′20″ W, thence to position 27°56′04″ N, 082°27′13″ W, thence to position 27°56′02″ N, 082°27′19″ W, thence to position 27°56′23″ N, 082°27′32″ W, thence to position 27°56′17″ N, 082°27′39″ W thence to the original position.

Persons and vessels may request authorization to enter, transit through, anchor in, or remain within the event area by contacting the COTP St. Petersburg by telephone at (727) 824-7506, or a designated representative via VHF radio on channel 16. If authorization to enter, transit through, anchor in, or remain within the regulated area is granted by the COTP St. Petersburg or a designated representative, all persons and vessels receiving such authorization must comply with the instructions of the COTP St. Petersburg or a designated representative. The Coast Guard will provide notice of the special local regulation by Local Notice to Mariners, Broadcast Notice to Mariners, and on-scene designated representatives.

The regulatory text we are proposing appears at the end of this document.

IV. Regulatory Analyses

We developed this proposed rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This NPRM has not been designated a “significant regulatory action,” under section 3(f) of Executive Order 12866, as amended by Executive Order 14094 (Modernizing Regulatory Review). Accordingly, the NPRM has not been reviewed by the Office of Management and Budget (OMB).

This regulatory action determination is based on the following reasons: (1) the special local regulation would be enforced in a small designated area in the Seddon Channel for only one day; (2) although persons and vessels may not enter, transit through, anchor in, or remain within the event area without authorization from the COTP St. Petersburg or a designated representative, they may operate in the surrounding area during the enforcement period; (3) persons and vessels may still enter, transit through, anchor in, or remain within the spectator area and enforcement area; and (4) the Coast Guard will provide advance notification of the special local regulation to the local Notice to Mariners and Broadcast Notice to Mariners.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to enter, transit through, anchor in, or remain within the enforcement area may be small entities, for the reasons stated in section IV.A above, this proposed rule would not have a significant economic impact on any vessel owner or operator.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A proposed rule has implications for federalism under Executive Order 13132 (Federalism), if it has a substantial direct effect on the States, on the relationship between the National Government and the States, or on the distribution of power and responsibilities among the various levels of government. We have analyzed this proposed rule under that order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves implementation of regulations within 33 CFR part 100 applicable to organized marine events on the navigable waters of the United States that could negatively impact the safety of waterway users and shore side activities in the event area lasting for 13 total hours. Normally such actions are categorically excluded from further review under paragraph L61 of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

G. Protest Activities

The Coast Guard respects the First Amendment rights of protesters. Protesters are asked to call or email the person listed in the FOR FURTHER INFORMATION CONTACT section to coordinate protest activities so that your message can be received without jeopardizing the safety or security of people, places, or vessels.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2024-0528 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 100

Harbors, Marine safety, Navigation (water), Reporting and recordkeeping requirements, Security measures, Waterways.

For the reasons discussed in the preamble, the Coast Guard is proposing to amend 33 CFR Part 100 as follows:

PART 100—SAFETY OF LIFE ON NAVIGABLE WATERS

1. The authority citation for part 100 continues to read as follows:

Authority: 46 U.S.C. 70041; 33 CFR 1.05-1.

2. Add § 100.T07-0528 to read as follows:

§ 100.T07-0528 Red Bull Flugtag Seddon Channel, Tampa, FL.

(a) Regulated areas. The regulations in this section apply to the following areas (all coordinates are based on North American Datum 1983):

(1) An event area where all non-participant persons and vessels are prohibited from entering, transiting through, anchoring in, or remaining within unless authorized by the Captain of the Port St. Petersburg (COTP) or a designated representative. The event area covers all navigable waters in Seddon Channel commencing at latitude 27°56′27″ N, 082°27′28″ W, thence to position 27°56′29″ N, 082°27′28″ W, thence to position 27°56′25″ N, 082°27′18″ W, thence to position 27°56′23″ N, 082°27′19″ W, thence to the original position;

(2) A spectator area where vessels will be directed to anchor while the event is taking place. The spectator area covers all navigable waters in Seddon Channel commencing at latitude 27°56′25″ N, 082°27′32″ W, thence to position 27°56′28″ N, 082°27′30″ W, thence to position 27°56′23″ N, 082°27′19″ W, thence to position 27°56′19″ N, 082°27′23″ W, thence to position 27°56′12″ N, 082°27′21″ W, thence to position 27°56′12″ N, 082°27′23″ W, thence to original position; and

(3) An enforcement area where designated representatives may control vessel traffic as determined by the prevailing conditions. The enforcement area covers all navigable waters in Seddon Channel commencing at latitude 27°56′18″ N, 082°27′43″ W, thence to position 27°56′30″ N, 082°27′33″ W, thence to position 27°56′30″ N, 082°27′29″ W, thence to position 27°56′25″ N, 082°27′17″ W, thence to position 27°56′22″ N, 082°27′16″ W, thence to position 27°56′18″ N, 082°27′20″ W, thence to position 27°56′04″ N, 082°27′13″ W, thence to position 27°56′02″ N, 082°27′19″ W, thence to position 27°56′23″ N, 082°27′32″ W, thence to position 27°56′17″ N, 082°27′39″ W thence to the original position.

(b) Definitions. As used in this section—

Captain of the Port (COTP) St. Petersburg means the Commander, U.S. Coast Guard Sector St. Petersburg or any Coast Guard commissioned, warrant or petty officer who has been authorized by the COTP to act on his behalf.

Designated representative means a Coast Guard Patrol Commander, including a Coast Guard coxswain, petty officer, or other officer operating a Coast Guard vessel and a Federal, State, and local officer designated by or assisting the COTP in the enforcement of the regulations in this section.

Participant means all persons and vessels registered with the event sponsor as a participant in the race.

(c) Regulations. (1) All non-participants are prohibited from entering, transiting through, anchoring in, or remaining within the event area described in paragraph (a)(1) of this section unless authorized by the COTP or their designated representative.

(2) Designated representatives may control vessel traffic throughout the enforcement area described in paragraph (a)(3) of this section as determined by the prevailing conditions.

(3) To seek permission to enter, contact the COTP or the COTP's representative by contacting the COTP St. Petersburg by telephone at (727) 824-7506. Those in the regulated area must comply with all lawful orders or directions given to them by the COTP or the designated representative.

(4) The COTP will provide notice of the regulated area through advanced notice via broadcast notice to mariners and by on-scene designated representatives.

(d) Enforcement period. This section will be enforced from 7 a.m. to 8 p.m. on November 9, 2024.

Dated: August 26, 2024.
Michael P. Kahle,
Captain, U.S. Coast Guard, Captain of the Port St. Petersburg.

[FR Doc. 2024-19847 Filed 9-4-24; 8:45 am]

BILLING CODE 9110-04-P